FEDERAL FINANCIAL INSTITUTIONS EXAMINATION COUNCIL

[Docket No. AS20-09]

Appraisal Subcommittee Notice of Meeting

AGENCY: Appraisal Subcommittee of the Federal Financial Institutions Examination Council.

ACTION: Notice of meeting.

Description: In accordance with Section 1104 (b) of Title XI of the Financial Institutions Reform, Recovery, and Enforcement Act of 1989, as amended, notice is hereby given that the Appraisal Subcommittee (ASC) will meet in open session for its regular meeting:

Location: Due to the COVID-19 Pandemic, the meeting will be open to the public via live webcast only. Visit the agency's homepage (www.asc.gov) and access the provided registration link in the What's New box. You MUST register in advance to attend this Meeting.

Date: September 9, 2020.

Time: 10:00 a.m. ET.

Status: Open.

Reports

Chairman

Executive Director

Delegated State Compliance Reviews

Grants Director

Financial Manager

Notation Vote

Action and Discussion Items

Approval of Minutes

May 13, 2020 Open Session

July 29, 2020 Special Meeting

Notice of Funding Availability; development of training for State Appraiser and AMC Regulatory Programs

FY21 ASC Budget Proposal

How To Attend and Observe an ASC Meeting

Due to the COVID-19 Pandemic, the meeting will be open to the public via live webcast only. Visit the agency's homepage (www.asc.gov) and access the provided registration link in the What's New box. The meeting space is intended to accommodate public attendees. However, if the space will not accommodate all requests, the ASC may refuse attendance on that reasonable basis. The use of any video or audio tape recording device, photographing device, or any other electronic or mechanical device designed for similar purposes is prohibited at ASC Meetings.

James R. Park,
Executive Director.

[FR Doc. 2020-19184 Filed 8-31-20; 8:45 am]

BILLING CODE 6700-01-P